DEPARTMENT OF COMMERCE

International Trade Administration

[A-351-824]

Silicomanganese From Brazil: Extension of Time Limit for the Preliminary Results of the Antidumping Duty Administrative Review

AGENCY: Import Administration, International Trade Administration, Department of Commerce.

SUMMARY: The Department of Commerce is extending the time limit for the preliminary results of the administrative review of the antidumping duty order on silicomanganese from Brazil until November 30, 2004. This extension applies to the administrative review of Rio Doce Manganes S.A. (formerly SIBRA-Electrosiderurgica Brazileira S.A.), Companhia Paulista de Ferroligas, and Urucum Mineracao S.A. The period of review is December 1, 2002, through November 30, 2003.

EFFECTIVE DATE: August 17, 2004.

FOR FURTHER INFORMATION CONTACT: Dmitry Vladimirov or Minoo Hatten, AD/CVD Enforcement 5, Import Administration, International Trade Administration, U.S. Department of Commerce, 14th Street and Constitution Avenue, NW., Washington, DC 20230; telephone: (202) 482-0665 and (202) 482-1690, respectively.

Background

On January 22, 2004, the Department of Commerce (the Department) published in the Federal Register a notice of initiation of the antidumping duty administrative review. See Initiation of Antidumping and Countervailing Duty Administrative Reviews and Request for Revocation in Part, 69 FR 3117, (January 22, 2004).

Extension of Time Limit for Preliminary Results

The Tariff Act of 1930, as amended (the Act), at section 751(a)(3)(A), provides that the Department will issue the preliminary results of an administrative review of an antidumping duty order within 245 days after the last day of the anniversary month of the date of publication of the order. The Act provides further that if the Department determines that it is not practicable to complete the review within this time period, the Department may extend the 245-day period to 365 days.

The Department has determined that it is not practicable to complete the preliminary results by the current deadline of September 1, 2004. There are a number of complex cost issues in this administrative review which impact the calculation of the antidumping margin. Further, we require additional time to analyze supplemental questionnaire responses and conduct verification. Therefore, in accordance with section 751(a)(3)(A) of the Act, and 19 CFR 351.213(h)(2), the Department is extending the time limit for the preliminary results by 90 days to November 30, 2004. The deadline for the final results of this review will be 120 days after the publication of the preliminary results. We are issuing this notice in accordance with section 751(a)(3)(A) of the Act.

Dated: August 10, 2004.
Jeffrey A. May,
Deputy Assistant Secretary for Import Administration.

[FR Doc. 04-18815 Filed 8-16-04; 8:45 am]

BILLING CODE 3510-DS-P